DEPARTMENT OF TRANSPORTATION

Federal Aviation Administration

14 CFR Part 39

[Docket No. FAA-2021-0305; Project Identifier AD-2021-00334-R; Amendment 39-21512; AD 2021-08-18]

RIN 2120-AA64

Airworthiness Directives; Sikorsky Aircraft Corporation Helicopters

AGENCY: Federal Aviation Administration (FAA), DOT.

ACTION: Final rule; request for comments.

SUMMARY: The FAA is superseding Airworthiness Directive (AD) 2021-04-16 which applied to certain Sikorsky Aircraft Corporation (Sikorsky) Model S-92A helicopters. AD 2021-04-16 required a one-time inspection of the landing gear for components with non-conforming threads and removal of any non-conforming threaded hinge pin and main landing gear (MLG) and nose landing gear (NLG) actuator pins. AD 2021-04-16 also prohibited installing certain part-numbered hinge and actuator pins on any helicopter. This AD requires the same actions but corrects erroneous part numbers. This AD was prompted by the discovery that certain part numbers listed in AD 2021-04-16 are incorrect. The FAA is issuing this AD to address the unsafe condition on these products.

DATES: This AD is effective April 29, 2021

The Director of the Federal Register approved the incorporation by reference of a certain other publication listed in this AD as of April 14, 2021 (86 FR 13631, March 10, 2021).

The FAA must receive any comments on this AD by June 1, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact your local Sikorsky Field Representative or Sikorsky's Service Engineering Group at Sikorsky Aircraft Corporation, Mailstop K100, 124 Quarry Road, Trumbull, CT 06611; telephone 1-800-946-4337 (1-800-Winged-S); email wcs_cust_service_eng.gr-sik@lmco.com. Operators may also log on to the Sikorsky 360 website at https://www.sikorsky360.com. You may view this service information at the FAA, Office of the Regional Counsel, Southwest Region, 10101 Hillwood Pkwy., Room 6N-321, Fort Worth, TX 76177. For information on the availability of this material at the FAA, call (817) 222-5110. It is also available at https://www.regulations.gov by searching for and locating Docket No. FAA-2021-0305.

Examining the AD Docket

You may examine the AD docket at https://www.regulations.gov by searching for and locating Docket No. FAA-2021-0305; or in person at Docket Operations between 9 a.m. and 5 p.m., Monday through Friday, except Federal holidays. The AD docket contains this final rule, any comments received, and other information. The street address for Docket Operations is listed above.

FOR FURTHER INFORMATION CONTACT: Dorie Resnik, Aviation Safety Engineer, Boston ACO Branch, FAA, 1200 District Avenue, Burlington, MA 01803; phone: (781) 238-7693; fax: (781) 238-7199; email: dorie.resnik@faa.gov.

SUPPLEMENTARY INFORMATION:

Background

The FAA issued AD 2021-04-16, Amendment 39-21438 (86 FR 13631, March 10, 2021) (AD 2021-04-16), for Sikorsky Model S-92A helicopters with serial numbers (S/Ns) 920006 through 920334 inclusive. AD 2021-04-16 required a one-time inspection of the landing gear and the removal from service of certain serial-numbered threaded hinge pins part number (P/N) 92250-12281-101 and certain serial-numbered MLG and NLG actuator pins P/N 92250-12287-101 and 92250-12287-103. AD 2021-04-16 was prompted by the manufacturer discovering nonconforming threads, resulting in a life limit reduction on multiple landing gear components including threaded hinge pins and MLG and NLG actuator pins. The FAA issued AD 2021-04-16 to prevent failure of components on the MLG and NLG. The unsafe condition, if not addressed, could result in damage to the helicopter and reduced ability to control the helicopter during landing.

Actions Since AD 2021-04-16 Was Issued

Since the FAA issued AD 2021-04-16, it was discovered that the P/Ns for the actuator pins were incorrect in certain paragraphs. Portions of the Required Actions paragraph incorrectly identified the actuator pin P/Ns as 92240-12287-101 and 92240-12287-103; the correct P/Ns are 92250-12287-101 and 92250-12287-103. The Installation Prohibition paragraph incorrectly identified the actuator pin P/Ns as 92240-12287-101 and 92240-12287-103; the correct P/Ns are 92250-12287-101 and 92250-12287-103. The FAA is issuing this AD to correct these P/N errors and address the unsafe condition on these products.

FAA's Determination

The FAA is issuing this AD because the agency determined the unsafe condition described previously is likely to exist or develop in other products of the same type design.

Related Service Information Under 1 CFR Part 51

The FAA reviewed Sikorsky Alert Service Bulletin 92-32-008, Basic Issue, dated January 21, 2020 (the ASB). The ASB describes procedures for a one-time inspection and replacement of non-conforming components on the MLG and NLG.

This service information is reasonably available because the interested parties have access to it through their normal course of business or by the means identified in the ADDRESSES section.

AD Requirements

This AD requires, within 300 hours time-in-service (TIS) after the effective date of this AD, visually inspecting the components of the right MLG assembly, left MLG assembly, and NLG kit for threaded hinge pins P/N 92250-12281-101 and actuator pins P/N 92250-12287-101 and 92250-12287-103 with an S/N as specified in the ASB. If there is any threaded hinge pin P/N 92250-12281-101 or any MLG or NLG actuator pin P/N 92250-12287-101 or P/N 92250-12287-103 with an S/N as specified in the ASB, removing it from service is required before further flight. This AD also prohibits, as of the effective date of this AD, installing any threaded hinge pin P/N 92250-12281-101 or actuator pin P/N 92250-12287-101 or 92250-12287-103 with an S/N as specified in the ASB, on any helicopter.

Differences Between This AD and the Service Information

This AD requires replacing only affected hinge pins and MLG and NLG actuator pins. The ASB requires replacing additional parts such as the MLG and NLG crossbolt and the MLG and NLG upper nut. The FAA has determined that the MLG and NLG crossbolt and the MLG and NLG upper nut fail in a safe and contained manner and therefore are not subject to this AD.

Additionally, this AD requires the one-time inspection within 300 hours TIS after the effective date of this AD and requires that any affected hinge pins and MLG and NLG actuator pins be removed from service before further flight. The ASB specifies inspecting and replacing the affected hinge pins and MLG and NLG actuator pins occur no later than January 21, 2021.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

This AD corrects an obvious error in AD 2021-04-16 that affects compliance and the public was previously provided opportunity for comment on the costs of the AD and required actions.

Accordingly, notice and opportunity for prior public comment are unnecessary pursuant to 5 U.S.C. 553(b)(3)(B). In addition, the FAA finds that good cause exists pursuant to 5 U.S.C. 553(d) for making this amendment effective in less than 30 days, for the same reasons the FAA found good cause to forgo notice and comment.

Comments Invited

The FAA invites you to send any written data, views, or arguments about this final rule. Send your comments to an address listed under ADDRESSES. Include “Docket No. FAA-2021-0305 and Project Identifier AD-2021-00334-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dorie Resnik, Aerospace Engineer, Boston ACO Branch, FAA, 1200 District Avenue, Burlington, MA 01803; phone: (781) 238-7693; fax: (781) 238-7199; email: dorie.resnik@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 85 helicopters of U.S. registry and estimates the following costs to comply with this AD:

Estimated Costs
Action | Labor cost | Parts cost | Cost per product | Cost on U.S. operators
Visually inspect landing gear (right MLG assembly, left MLG assembly, and NLG kit) | 1 work-hour × $85 per hour = $85 (per landing gear) | $0 | $255 (three landing gear installed on each helicopter) | $21,675

The FAA estimates the following costs to do any necessary replacements that are required based on the results of the inspection. The FAA has no way of determining the number of helicopters that might need these replacements:

On-Condition Costs
Action | Labor cost | Parts cost | Cost per product
Replace threaded hinge pin, P/N 92250-12281-101 | 1 work-hour × $85 per hour = $85 | $4,535 | $4,620
Replace MLG/NLG actuator pin, P/N 92250-12287-101 | 1 work-hour × $85 = $85 | 557 | 642
Replace MLG/NLG actuator pin, P/N 92250-12287-103 | 1 work-hour × $85 = $85 | 609 | 694

According to the manufacturer, some of the costs of this AD may be covered under warranty, thereby reducing the cost impact on affected individuals. The FAA does not control warranty coverage for affected individuals. As a result, the FAA has included all costs in its cost estimate.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-04-16, Amendment 39-21438 (86 FR 13631, March 10, 2021); and

b. Adding the following new airworthiness directive:

2021-08-18 Sikorsky Aircraft Corporation (Sikorsky): Amendment 39-21512; Docket No. FAA-2021-0305; Project Identifier AD-2021-00334-R

(a) Effective Date

This airworthiness directive (AD) is effective April 29, 2021.

(b) Affected ADs

This AD replaces AD 2021-04-16, Amendment 39-21438 (86 FR 13631, March 10, 2021) (AD 2021-04-16).

(c) Applicability

This AD applies to Sikorsky Model S-92A helicopters, certificated in any category, with serial numbers (S/Ns) 920006 through 920334 inclusive.

(d) Subject

Joint Aircraft System Component (JASC) Code 3220, Nose/Tail Landing Gear and 3210, Main Landing Gear.

(e) Unsafe Condition

This AD was prompted by the discovery that certain part numbers listed in AD 2021-04-16 were incorrect. AD 2021-04-16 was issued after the manufacturer determined that because of non-conforming threads, due to a quality escape, the life limit of the threaded hinge pin and main landing gear (MLG) and nose landing gear (NLG) actuator pins was reduced. The FAA is issuing this AD to correct the errors in AD 2021-04-16 and prevent failure of components on the MLG and NLG. The unsafe condition, if not addressed, could result in damage to the helicopter and reduced ability to control the helicopter during landing.

(f) Compliance

Comply with this AD within the compliance times specified, unless already done.

(g) Required Actions

Within 300 hours time in service after the effective date of this AD, visually inspect the components of the right MLG assembly, left MLG assembly, and NLG kit for threaded hinge pins part number (P/N) 92250-12281-101 and actuator pins P/N 92250-12287-101 and P/N 92250-12287-103 with S/Ns identified in Table 1 or 2 (threaded hinge pins) or in Table 1 (actuator pins), in Section 3, the Accomplishment Instructions, in the Sikorsky Aircraft Corporation Alert Service Bulletin 92-32-008, Basic Issue, dated January 21, 2020 (the ASB).

Note 1 to the introductory text of paragraph (g): See Figures 1 and 2 in Section 3, the Accomplishment Instructions, in the ASB for guidance on performing the visual inspection.

(1) If there is any threaded hinge pin, P/N 92250-12281-101, with an S/N listed in Table 1 or 2 in the ASB, before further flight, remove the threaded hinge pin from service.

(2) If there is any MLG or NLG actuator pin, P/N 92250-12287-101 or P/N 92250-12287-103, with an S/N listed in Table 1 in the ASB, before further flight, remove the actuator pin from service.

(h) Installation Prohibition

As of the effective date of this AD, do not install any threaded hinge pin 92250-12281-101 or actuator pin, P/N 92250-12287-101 or 92250-12287-103 with an S/N listed in Table 1 or 2 in Section 3, the Accomplishment Instructions, in the ASB, on any helicopter.

(i) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD.

(2) Before using any approved AMOC, notify your appropriate principal inspector, or lacking a principal inspector, the manager of the local flight standards district office/certificate holding district office.

(j) Related Information

For more information about this AD, contact Dorie Resnik, Aviation Safety Engineer, Boston ACO Branch, Compliance & Airworthiness Division, FAA, 1200 District Avenue, Burlington, MA 01803; phone: (781) 238-7693; fax: (781) 238-7199; email: dorie.resnik@faa.gov.

(k) Material Incorporated by Reference

(1) The Director of the Federal Register previously approved the incorporation by reference (IBR) of the service information listed in this paragraph under 5 U.S.C. 552(a) and 1 CFR part 51.

(2) You must use this service information as applicable to do the actions required by this AD, unless the AD specifies otherwise.

(3) The following service information was approved for IBR on April 14, 2021 (86 FR 13631, March 10, 2021).

(i) Sikorsky Aircraft Corporation Alert Service Bulletin 92-32-008, Basic Issue, dated January 21, 2020.

(ii) [Reserved]

(4) For Sikorsky Aircraft Corporation service information identified in this AD, contact your local Sikorsky Field Representative or Sikorsky's Service Engineering Group at Sikorsky Aircraft Corporation, Mailstop K100, 124 Quarry Road, Trumbull, CT 06611; telephone 1-800-946-4337 (1-800-Winged-S); email wcs_cust_service_eng.gr-sik@lmco.com. Operators may also log on to the Sikorsky 360 website at https://www.sikorsky360.com.

(5) You may view this service information at the FAA, Office of the Regional Counsel, Southwest Region, 10101 Hillwood Pkwy., Room 6N-321, Fort Worth, TX 76177. For information on the availability of this material at the FAA, call (817) 222-5110.

(6) You may view this service information that is incorporated by reference at the National Archives and Records Administration (NARA). For information on the availability of this material at NARA, email: fedreg.legal@nara.gov, or go to: https://www.archives.gov/federal-register/cfr/ibr-locations.html.

Issued on April 9, 2021.
Lance T. Gant,
Director, Compliance & Airworthiness Division, Aircraft Certification Service.

[FR Doc. 2021-07687 Filed 4-12-21; 11:15 am]

BILLING CODE 4910-13-P